DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Delivery Verification Procedure for Imports.

OMB Control Number: 0694-0016.

Form Number(s): BIS-647P.

Type of Request: Regular submission (extension of a current information collection).

Burden Hours: 56.

Number of Respondents: 100.

Average Hours Per Response: 31 minutes.

Needs and Uses: Foreign governments, on occasions, require U.S. importers of strategic commodities to furnish their foreign supplier with a U.S. Delivery Verification Certificate validating that the commodities shipped to the U.S. were in fact received. This procedure increases the effectiveness of controls on the international trade of strategic commodities.

Affected Public: Businesses and other for-profit organizations.

Frequency: On occasion.

Respondent's Obligation: Required to obtain benefits.

Copies of the above information collection proposal can be obtained by calling or writing Jennifer Jessup, Departmental Paperwork Clearance Officer, (202) 482-0336, Department of Commerce, Room 6616, 14th and Constitution Avenue NW, Washington, DC 20230 (or via the Internet at JJessup@doc.gov.

Written comments and recommendations for the proposed information collection should be sent within 30 days of publication of this notice to Jasmeet Seehra, OMB, by email to Jasmeet_K._Seehra@omb.eop.gov, or by fax to (202) 395-5167.

Dated: October 18, 2013.
Gwellnar Banks,
Management Analyst, Office of the Chief Information Officer.

[FR Doc. 2013-24866 Filed 10-23-13; 8:45 am]

BILLING CODE 3510-33-P